NATIONAL SCIENCE FOUNDATION

Notice of Permit Application Received Under the Antarctic Conservation Act of 1978

AGENCY: National Science Foundation.

ACTION: Notice of permit applications received under the Antarctic Conservation Act.

SUMMARY: Notice is hereby given that the National Science Foundation (NSF) has received a waste management permit application for operation of a camp at Patriot Hills, Heritage Range, southern Ellsworth Mountains, Antarctica, by Adventure Network International, a company within the United States. The application is submitted to NSF pursuant to regulations issued under the Antarctic Conservation Act of 1978.

DATES: Interested parties are invited to submit written data, comments, or views with respect to this permit application on or before November 13, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Joyce A. Jatko or Nadene Kennedy at the above address or (703) 292-8030.

SUPPLEMENTARY INFORMATION: NSF's Antarctic Waste Regulation, 45 CFR Part 671, requires all U.S. citizens and entities to obtain a permit for the use or release of a designated pollutant in Antarctica, and for the release of waste in Antarctica. NSF has received a permit application under this Regulation for operation of remote camp at Patriot Hills, Antarctica, and logistic support services for scientific and other expeditions, film crews, and tourists. These activities include aircraft support, cache positioning, camp and field support, resupply, search and rescue, medevac, medical support and logistic support for some National Operators. The camp can accommodate up to 100 people and is adjacent to a 100m x 2000m blue-ice runway. The blue-ice runway is a natural feature that requires limited amount of preparation and upkeep for aircraft use. There are standard programs offered on a regular basis. These include: Climbing trips to Vinson Massif, the Ellsworth Mountains and the Transantarctic Mountains; ski trips to the Ellsworth Mountains and the Geographic South Pole; and flights to the Geographic South Pole, and the Emperor Penguin Colony at the Dawson Lambton Glacier.

A total of four aircraft will be operated by Adventure Network International throughout the Antarctic. They will consist of the following: Two Twin Otter aircraft, and Ilyushin 76 (IL-76), and either a turbine DC-3 or a Cessna 185.

The permit applicant is: Ms. Anne Kershaw, President, Adventure Network International (ANI), 4800 N. Federal Highway, Suite 307D, Boca Raton, FL 33431. Permit application No. 2002-WM-003.

Nadene G. Kennedy,
Permit Officer.

[FR Doc. 01-25613 Filed 10-11-01; 8:45 am]

BILLING CODE 7555-01-M